ENVIRONMENTAL PROTECTION AGENCY

[FRL-8169-6]

Brownfields State and Tribal Response Grant Program

AGENCY: Environmental Protection Agency.

ACTION: Notice.

SUMMARY: This action adds the Brownfields State and Tribal Response (BSTR) grant program authorized by section 128(a) of the Comprehensive Environmental Response, Compensation, and Liability Act of 1980, as amended, (CERCLA), to the list of environmental grant programs eligible for inclusion in Performance Partnership Grants (PPGs).

FOR FURTHER INFORMATION CONTACT: Jack Bowles, Office of Congressional and Intergovernmental Relations, Office of the Administrator, Mail Code 1301, U.S. Environmental Protection Agency, 1200 Pennsylvania Ave., NW., Washington, DC 20460; telephone number, 202-564-7178; e-mail address: bowles.jack@epa.gov; or Jennifer Wilbur, Office of Brownfields Cleanup and Redevelopment, Office of Solid Waste and Emergency Response, Mail Code 5105T, 1200 Pennsylvania Ave., NW., Washington, DC 20460; telephone number, 202-566-2756; e-mail address: wilbur.jennifer@epa.gov.

SUPPLEMENTARY INFORMATION: The Omnibus Consolidated Rescissions and Appropriations Act of 1996 (Pub. L. 104-134) and the Department of Veterans Affairs and Housing and Urban Development, and Independent Agencies Appropriations Act of 1998 (Pub. L. 105-65), authorize EPA to combine categorical grant funds appropriated in EPA's State and Tribal Assistance Grant (STAG) account and award the funds as PPGs. Public Law 104-134, states, in relevant part, that: “the Administrator is authorized to make grants annually from funds appropriated under this heading, subject to such terms and conditions as the Administrator shall establish, to any State or federally recognized Indian tribe for multimedia or single media pollution prevention, control and abatement and related environmental activities at the request of the Governor or other appropriate State official or the tribe.” Public Law 105-65 amended the PPG authority by authorizing “interstate agencies, tribal consortia, and air pollution control agencies” to receive PPGs. Pursuant to the authority granted in Public Law 104-134 and Public Law 105-65, EPA promulgated PPG regulations in January of 2001 as part of the Agency's revision of 40 CFR part 35, the rules governing categorical environmental program grants. The regulation at 40 CFR 35.133(b) states that: “The Administrator may, in guidance or regulation, describe subsequent additions, deletions, or changes to the list of environmental programs eligible for inclusion in Performance Partnership Grants.” The BSTR grant program authorized by CERCLA 128(a) is funded in the same line item that funds categorical grants for “multimedia or single media pollution prevention, control and abatement and related environmental activities” and, therefore, this grant program is eligible for inclusion in PPGs. This notice is made pursuant to 40 CFR 35.133(b), to inform entities eligible to receive PPGs that the BSTR grant program may be included in a PPG subject to any limitations herein defined.

In the fiscal year 2003 Consolidated Appropriations Resolution, Public Law 108-7, EPA was appropriated funds “for carrying out section 128[(a)] of CERCLA, as amended.” Congress has included funds for CERCLA 128(a) in subsequent EPA appropriations. Heretofore and hereafter, the BSTR grant program funds, with the exception of funds states and tribes use to capitalize a revolving loan fund under CERCLA 128(a)(1)(B)(ii)(I), are eligible for inclusion in PPGs, and may be included in a PPG at the request of the appropriate official of an eligible entity, subject to EPA's regulations at 40 CFR part 31 and 40 CFR 35.001 through 35.138 and 35.500 through 35.538. A Region should notify the Office of Brownfields Cleanup and Redevelopment in the Office of Solid Waste and Emergency Response when it plans to award Brownfield grant program funds as part of a PPG.

Dated: May 4, 2006.
Stephen L. Johnson,
Administrator.

[FR Doc. E6-7335 Filed 5-12-06; 8:45 am]

BILLING CODE 6560-50-P